DEPARTMENT OF AGRICULTURE

Food Safety and Inspection Service

[Docket No. FSIS-2018-0007]

Codex Alimentarius Commission: Meeting of the Codex Committee on Methods of Analysis and Sampling

AGENCY: Office of Food Safety, USDA.

ACTION: Notice of public meeting and request for comments.

SUMMARY: The Office of Food Safety, U.S. Department of Agriculture (USDA), and the Food and Drug Administration (FDA), Center for Food Safety and Applied Nutrition (CFSAN) are sponsoring a public meeting on April 6, 2018. The objective of the public meeting is to provide information and receive public comments on agenda items and draft United States (U.S.) positions to be discussed at the 39th Session of the Codex Committee on Methods of Analysis and Sampling (CCMAS) of the Codex Alimentarius Commission (Codex), taking place in Budapest, Hungary, between May 7 and 11, 2018. The Acting Deputy Under Secretary, Office of Food Safety and the FDA recognize the importance of providing interested parties with the opportunity to obtain background information on the 39th Session of the CCMAS and to address items on the agenda.

DATES: The public meeting is scheduled for Friday, April 6, 2018, 10:30 a.m.-12:30 p.m.

ADDRESSES: The public meeting will take place at the United States Department of Agriculture (USDA), Jamie L. Whitten Building, Room 107-A, 1400 Independence Avenue SW, Washington, DC 20250. Documents related to the 39th Session of the CCMAS will be accessible via the internet at the following address: http://www.codexalimentarius.org/meetings-reports/en/.

Dr. Gregory O. Noonan, U.S. Delegate to the 39th Session of the CCMAS, invites U.S. interested parties to submit their comments electronically to the following email address: Gregory.Noonan@fda.hhs.gov.

Call-in-Number

If you wish to participate in the public meeting for the 39th Session of the CCMAS by conference call, please use the call-in-number listed below:

Call-in-Number: 1-888-844-9904.

Access Code: 5126092#.

Registration: Attendees may register to attend the public meeting by emailing Doreen.Chen-Moulec@fsis.usda.gov by April 4, 2018. Early registration is encouraged because it will expedite entry into the building. The meeting will be held in a Federal building. Attendees should bring photo identification and plan for adequate time to pass through the security screening systems. Attendees who are not able to attend the meeting in person, but who wish to participate, may do so by phone.

FOR FURTHER INFORMATION CONTACT: About the 39th session of the CCMAS: Gregory O. Noonan, Ph.D., Research Chemist, Center for Food Safety and Applied Nutrition (CFSAN), Food and Drug Administration, Harvey W. Wiley Federal Building, 5100 Paint Branch Parkway, College Park, MD 20740 Phone: (240) 402-2250, Fax: (301) 436-2634, Email: Gregory.Noonan@fda.hhs.gov.

About the public meeting: Doreen Chen-Moulec, U.S. Codex Office, 1400 Independence Avenue SW, Room 4867, South Agriculture Building, Washington, DC 20250. Phone: (202) 205-7760, Fax: (202) 720-3157, Email: Doreen.Chen-Moulec@fsis.usda.gov.

SUPPLEMENTARY INFORMATION:

Background

The Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCMAS is responsible for defining the criteria appropriate to Codex Methods of Analysis and Sampling; serving as a coordinating body for Codex with other international groups working in methods of analysis and sampling and quality assurance systems for laboratories; specifying, on the basis of final recommendations submitted to it by other bodies, referred to above, reference methods of analysis and sampling appropriate to Codex Standards which are generally applicable to a number of foods; considering, amending, and if necessary endorsing, as appropriate, methods of analysis and sampling proposed by Codex (Commodity) Committees, except that methods of analysis and sampling for residues of pesticides or veterinary drugs in food, and the assessment of microbiological quality and safety on food, and the assessment of specifications for food additives, do not fall within the terms of reference of this Committee); elaborating sampling plans and procedures, as required; considering specific sampling and analysis problems submitted to it by the Commission or any of its Committees; defining procedures, protocols, guidelines, or related texts for the assessment of food laboratory proficiency, as well as quality assurance systems for laboratories.

The CCMAS is hosted by Hungary and the meeting is attended by the United States as a member country of Codex.

Issues To Be Discussed at the Public Meeting

The following items on the Agenda for the 39th Session of the CCMAS will be discussed during the public meeting:

• Matters Referred to the Committee by the Codex Alimentarius Commission and Other Subsidiary Bodies;

• Endorsement of Methods of Analysis Provisions and Sampling Plans in Codex Standards;

• Revision of the Recommended Methods of Codex Stan 234/review and update of Codex Stan 234;

• Criteria for endorsement of biological methods used to detect chemicals of concern;

• Proposal to amend the Guidelines on Measurement Uncertainty;

• Proposal to amend the General Guidelines on Sampling

• Report of an Inter-Agency Meeting on Methods of Analysis; and

• Other Business and Future Work.

Each issue listed will be fully described in documents distributed, or to be distributed, by the Secretariat before to the Committee Meeting. Members of the public may access or request copies of these documents (see ADDRESSES).

Public Meeting

At the April 6, 2018, public meeting, draft U.S. positions on the agenda items will be described and discussed, and attendees will have the opportunity to pose questions and offer comments. Written comments may be offered at the meeting or sent to the U.S. Delegate for the 39th Session of the CCMAS, Gregory Noonan (see ADDRESSES).

Written comments should state that they relate to activities of the 39th Session of the CCMAS.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.) should contact USDA's TARGET Center at (202) 720-2600 (voice and TDD).

Paulo Almeida,
Acting U.S. Manager for Codex Alimentarius.

[FR Doc. 2018-05514 Filed 3-16-18; 8:45 am]

BILLING CODE 3410-DM-P